DEPARTMENT OF THE INTERIOR

National Park Service

36 CFR Parts 7 and 21

[NPS-HOSP-DTS38124; XXXP1039C6, PPMWHOSPM0, PRCRURUC6.U00000]

RIN 1024-AE86

Hot Springs National Park; Use of Thermal Water and Commercial Passenger-Carrying Vehicles

AGENCY: National Park Service, Interior.

ACTION: Proposed rule.

SUMMARY: The National Park Service (NPS) proposes to amend the special regulations for Hot Springs National Park to update regulations about the use of thermal water. The NPS also proposes to remove outdated regulations concerning commercial passenger-carrying motor vehicles.

DATES: Comments on the proposed rule must be received by 11:59 p.m. ET on January 27, 2025.

ADDRESSES: You may submit comments, identified by Regulation Identifier Number (RIN) 1024-AE86, by either of the following methods:

(1) Electronically: Go to the Federal eRulemaking Portal: https://www.regulations.gov/. Follow the instructions for submitting comments.

(2) By hard copy: Mail to: Superintendent, Hot Springs National Park, 101 Reserve Street, Hot Springs, Arkansas 71901.

Instructions: Comments will not be accepted by fax, email, or in any way other than those specified above. All submissions received must include the words “National Park Service” or “NPS” and must include the docket number or RIN (1024-AE86) for this rulemaking. Comments received may be posted without change to https://www.regulations.gov/, including any personal information provided.

Docket: For access to the docket to read comments received, go to https://www.regulations.gov/ and search for “1024-AE86”

FOR FURTHER INFORMATION CONTACT: Laura Miller, Superintendent, Hot Springs National Park; (501)-620-6735; laura_a_miller@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the proposal is available on Regulations.gov in the docket for this rulemaking.

SUPPLEMENTARY INFORMATION:

Background

Purpose and Significance of Hot Springs National Park

Hot Springs National Park is a 5,500-acre park in Hot Springs, Arkansas, located approximately 55 miles southwest of Little Rock, Arkansas. The U.S. Congress created the park in 1832 when it designated the land as Hot Springs Reservation. In 1921, the reservation name was changed to Hot Springs National Park. Today, the NPS administers the park as one of more than 400 units of the National Park System.

The purpose of the park is to protect its unique geothermal spring water and associated lands for public health, wellness, and enjoyment. The park encompasses mostly forested mountains but includes a developed urban edge formed by Bathhouse Row, which was designated a national historic landmark in 1987. The NPS preserves and manages natural and cultural resources in the park for over 1.5 million annual visitors. Geothermal spring water originating within the park provides ample opportunities for public recreation, health, and wellness activities, including therapeutic bathing. The NPS collects and distributes thermal water to public fountains and to various entities (referred to collectively as bathhouses), including spas, a hotel, and a brewery, within and outside the park. The public uses and enjoys thermal water in bathhouses, by viewing display springs, and by collecting and drinking water free of charge from public fountains.

Legal Framework for the Use of Thermal Water

Under the NPS Organic Act of 1916, the NPS has broad authority to regulate the use of the lands and waters within National Park System units. See 54 U.S.C. 100101; 100751(a). The enabling act that established Hot Springs National Park, now codified at 16 U.S.C. Subchapter XL, specifically authorizes the NPS to make all needful rules and regulations regarding the use of thermal water, including the use of thermal water by bathhouses. 16 U.S.C. 363. The park's enabling act authorizes specific uses and establishes conditions for the use of thermal water. 16 U.S.C. 361-363. In 1959, the NPS promulgated regulations, now codified at 36 CFR 7.18(b), prohibiting the removal of water from any source of supply within the park for the purpose of sale, or for any use other than personal drinking. In 1979, the NPS promulgated regulations, now codified at 36 CFR part 21, governing bathhouses that receive thermal water originating in the park and use it for purposes authorized by the superintendent. These regulations primarily address bathing in thermal water for medical treatment. They contain specific provisions about registration of prescribing physicians, health examinations for infectious or communicable diseases, and the control of persons with acute or infectious diseases and other maladies.

Since 1979, the use of thermal water in bathhouses has evolved. Historical use of thermal water for medicinal purposes has been largely replaced by bathing for recreation or general health and wellness. The NPS receives requests for new uses of thermal water within and outside the park and the existing regulations do not clearly define procedures and standards for evaluating such requests. In particular, the existing regulations do not provide adequate notice about specific provisions in the park's enabling act about written instruments, priority users, surplus water, and rates and costs, none of which are addressed in the existing regulations.

Proposed Rule

Summary of the Proposed Rule

The NPS proposes to update park regulations about the use of thermal water to reflect contemporary uses of water and provisions in the park's enabling act about the use of thermal water. For easier reference and improved transparency, all regulations addressing the use of thermal water would be located in paragraph (b) of § 7.18, rather than split between paragraph (b) of § 7.18 and part 21. This rule would remove part 21 in its entirety. This rule also would remove existing regulations in part 21 about registration of physicians (§ 21.4), requirements to have medical prescriptions before bathing (§ 21.5), control of persons with diseases and other maladies (§ 21.6), health examinations and infectious diseases (§ 21.7), solicitation by bathhouse employees for tips (§ 21.9), loss of personal valuables (§ 21.10), and the redemption and loss of bath tickets (§§ 21.11-21.12) as outdated and unnecessary because of changes in how the public uses thermal water and changes in how bathhouses operate.

In addition to updating regulations about the use of thermal water, this rule would revise existing paragraph (a) in § 7.18. This paragraph contains outdated permit and fee requirements for commercial passenger-carrying motor vehicles operating in the park. The NPS has a statutory authority to manage these services through commercial use authorizations (CUAs) that it did not have when paragraph (a) was promulgated. 54 U.S.C. 101925. Consistent with this authority, the NPS manages commercial passenger-carrying motor vehicles in the park through CUAs and applicable policy. In order to provide notice to the public, including affected service providers, this rule would replace the existing language in paragraph (a) with a statement that CUAs and fees for the operation of commercial passenger-carrying vehicles will be required in accordance with 54 U.S.C. 101925.

Below is a paragraph-by-paragraph analysis of the proposed rule that explains changes to existing similar regulations, if any.

Section-by-Section Analysis

Paragraph (b)(1)—Definitions

Proposed regulation | Existing regulations
§ 7.18(b)(1) Definitions | • § 7.18(b) Use of water.
| • § 21.1 Definitions.

Existing regulations in § 21.1 define the terms “physician,” “registered physician,” “employee,” and “bathhouse”. The proposed rule would remove definitions for “physician” and “registered physician” because those terms would no longer be used in the regulations due to changes in how thermal water is used by the public. The existing definition of “employee” is any person licensed or certified by a State or territory in his or her specialty, or certified by the superintendent to perform special services in a bathhouse. The rule would remove the definition of “employee” as redundant with a provision in new paragraph (b)(3)(v) that would require bathhouses to ensure and maintain employee licenses and certifications where required by Federal or State law. The remainder of the existing definition of “employee” is outdated and unnecessary because the superintendent no longer issues such certifications.

The proposed rule would simplify the definition of “bathhouse” by removing unnecessary references to individuals, trustees, partnerships, corporations, and business entities as potential operators, which is not relevant to the issue of authorized use of thermal water. Instead, the definition would simply state that bathhouse is a facility authorized to use thermal water for any purpose pursuant to a written instrument signed by the superintendent.

The proposed rule would add a new definition of “bathing” to mean soaking in thermal water for health benefits. This definition is necessary to implement a distinction in the park's enabling act about rates charged to bathhouses for use of thermal water, explained below. The proposed rule would add a new definition of “thermal water” to mean water that emerges from springs, fountains, or other natural sources within the park. This language is similar to language in existing paragraph (b) of § 7.18 and serves to distinguish water that is subject to NPS administration, and water that is not. The rule would add a new definition of “use of thermal water” to mean heating, cooling, storing, removing from the park, combining with other substances, or otherwise altering thermal water in any manner. This definition is intentionally broad to include any possible use so that the NPS can effectively protect this resource through restrictions and conditions on the use of thermal water that appear elsewhere in the regulations. Finally, the rule would add a definition of “water treatment” to mean the introduction of any substance into thermal water, including chemicals, solutions, or other water. This type of use would be further defined because it requires specific approval by the NPS Office of Public Health (OPH), as explained below.

Paragraph (b)(2)—Use of Thermal Water

Proposed regulation | Existing regulations
§ 7.18(b)(2) Use of thermal water | • § 7.18(b) Use of water.
| • § 21.3 Use of thermal water.

Existing regulations in § 7.18(b) prohibit the carrying away of water, hot or cold, from any of the springs, fountains, or other sources of supply in the park for the purpose of sale, or for any use other than personal drinking. Existing regulations in § 21.3 prohibit the use of thermal waters for purposes other than those authorized by the superintendent. They further prohibit the heating, reheating, or otherwise increasing the temperature of thermal water, and the introduction of any substance, chemical, or other material or solution into thermal waters, except as may be prescribed by a physician for a bather or as may be directed by the superintendent.

This rule would replace these existing regulations with new paragraph (b)(2) of § 7.18. In order to continue to protect the integrity of thermal water, new paragraph (b)(2)(i) would prohibit the use of thermal water except by individuals for personal consumption or as authorized in writing by the superintendent. As explained above, the new definition of “use of thermal water” would be broad enough to include any of the specific uses of water prohibited by the existing regulations.

Under the rule, the superintendent's authority to allow use of thermal water would be limited to use that is consistent with the purposes of the park, including the protection of natural resource values. The park's Foundation Document (2022) states that the purpose of the park is to protect its geothermal spring water and associated lands for public health, wellness, and enjoyment. This regulatory provision, then, would allow the superintendent to authorize the use of thermal water for the general public welfare, to include, for example, use of thermal water for bathing, drinking, and relaxation, but not in a manner that is inconsistent with the mandate to protect the resource. The rule would more specifically prevent the superintendent from authorizing the removal of thermal water from the park for direct sale or use in products for sale. This would not prevent the superintendent from authorizing the use of thermal water by bathhouses that are commercial operations. Historic and contemporary bathhouses have and continue to operate as commercial businesses, such as spas, hotels, and (most recently) a brewery. This provision, similar to existing § 7.18(b), would prohibit the commercial exploitation of thermal water as a product that is created, packaged, and sold outside of the park or any bathhouse. These types of uses are too far removed from the establishment of the park as an in-situ reserve where the public can visit and benefit from thermal water originating in the park.

The last sentence of new paragraph (b)(2)(i) would state that the superintendent, in addition to any other appropriate written instrument, may use lease agreements to authorize the use of thermal water, but only those lease agreements specifically authorized by the park's enabling legislation. The NPS intends this specific reference to the park's enabling legislation to clarify that lease agreements entered into by the NPS under its general leasing authority in 54 U.S.C. 102102, as implemented by NPS regulations in 36 CFR part 18, should not be used to authorize the use of thermal water.

New paragraph (b)(2)(ii) would require all water treatment to be approved by the OPH, and be limited to the minimum amount and type necessary for the maintenance of public health and safety, as determined by the OPH.¹ This provision would codify an additional level of protection for thermal water in NPS regulations. This is consistent with existing practice, as NPS staff at the park work closely with OPH officers to maintain the health and safety of thermal water. The rule would not include the allowance in existing § 7.18(b) that physicians can prescribe the introduction of substances into thermal water for a bather. Bathing for medicinal purposes is not a contemporary use of thermal water and the employees of the OPH are more appropriate subject matter experts than personal physicians to determine the potential impacts of water treatment on public health.

¹ Water treatment also may be subject to approvals from local, county or State officials that have been delegated authority to enforce Federal statutes such as the Safe Drinking Water Act.

New paragraphs (b)(2)(iii)-(v) would codify in NPS regulations, for the first time, provisions in the park's enabling act that establish priority uses of thermal water by bathhouses located within and outside of the park. Restating these provisions in a more accessible format would benefit the NPS and existing and prospective bathhouses. Bathhouses would better understand how the park's enabling act prioritizes the use of thermal water among authorized users. Bathhouses also would better understand the requirement that there be a surplus of thermal water before the superintendent can authorize bathhouses located outside of the park, except for the Arlington Hotel, to use thermal water. New paragraph (b)(2)(iii) would restate the order of priority for using thermal water, consistent with 16 U.S.C. 362:

1. Bathhouses located within the park, in the order in which they were authorized to use thermal water.

2. Arlington Hotel.

3. Bathhouses located outside of the park, in the order in which they were authorized to use thermal water, and only when the Superintendent has determined that there is a surplus of thermal water.

The park's enabling act refers to the “Army and Navy hospital bathhouse” and the “public bathhouse” as having priority use before any of the bathhouses identified in the rule. These entities are not listed in the rule, however, because the Army and Navy hospital bathhouse ceased operation in 1959 and the public bathhouse, which referred to the Libbey Physical Medicine Center, ceased operation in 2005. In the future, if new bathhouses are established in either location, they would be categorized as bathhouses located within the park, and have priority use relative to other bathhouses within the park in the order in which they were authorized to use thermal water, but always before the Arlington Hotel and other bathhouses located outside of the park. The Arlington Hotel is located outside of the park and is specifically named in the park's enabling act as having priority use of thermal water in the order identified in the rule. Although it is located outside of the park, the superintendent is not required to determine there is a surplus of thermal water before authorizing the Arlington Hotel to use thermal water pursuant to a written instrument due to its specific mention in the enabling act. Currently, Levi Hospital is the only other bathhouse located outside of the park that is authorized to use thermal water. Levi Hospital is not named in the enabling act and its use of thermal water is conditioned upon the superintendent determining there is a surplus of thermal water. As long as it remains in continuous operation, its use of thermal water will have priority over other bathhouses located outside of the park that may be authorized to use thermal water in the future.

New paragraph (b)(2)(iv) would explain that a surplus of thermal water exists when, after accounting for all of the thermal water that bathhouses located within the park and the Arlington Hotel are authorized to use, the superintendent determines that additional thermal water may be used by other bathhouses located outside of the park in a manner that would not conflict with the requirements of applicable Federal laws and policies, including those that require the NPS to preserve the resources of the park. When the superintendent evaluates whether there is a surplus, the relevant value is the full amount of thermal water that may be used by bathhouses within the park and the Arlington Hotel, not the amount of thermal water actually used by those bathhouses at any time. The superintendent then must evaluate whether there is any remaining thermal water that could be used by other bathhouses, and whether such use would violate any applicable Federal laws (e.g., the park's enabling act and the NPS Organic Act) or any applicable Federal policies (e.g., NPS Management Policies 2006). This includes an evaluation of whether additional use of thermal water will cause impairment of park resources, including wildlife and other natural features in the park that use or depend on the water. The superintendent must determine there is a surplus of water before signing a written instrument authorizing the use of thermal water by a bathhouse located outside of the park.

New paragraph (b)(2)(v) would require the NPS to provide adequate notice to bathhouses that have lower priority use authorizations before it authorizes a bathhouse higher in the order of priority to use thermal water. This paragraph would further require the NPS to provide adequate notice to bathhouses located outside of the park, other than the Arlington Hotel, if the superintendent's determination that there is a surplus of thermal water changes in a manner that will impact their authorizations to use thermal water. These provisions would help ensure that bathhouses have reasonable notice about potential decreases in the amount of thermal water they are authorized to use. This would allow them to adjust operations and notify customers about impacts to offered products and services. The superintendent may change the amount of thermal water bathhouses are authorized to use based upon determinations of surplus or determinations that use would be inconsistent with the purposes of the park, notwithstanding the terms and conditions of any written instrument authorizing use of thermal water.

New paragraph (b)(2)(vi) would require bathhouses to have a thermal water management plan approved by the superintendent and the OPH, with an additional requirement that thermal water management plans for bathhouses located outside of the park also must be approved by the Arkansas Department of Health, as required by State law. Thermal water management plans are already required as a term and condition of all written instruments authorizing bathhouses to use thermal water. Including this requirement in the regulations would provide additional notice and transparency for bathhouses.

The park's enabling act vests full power to the Secretary, acting through the NPS, to promulgate regulations that authorize the superintendent to examine and inspect at any time the manner of using thermal water in any bathtub. 16 U.S.C. 363. Consistent with this authority, new paragraph (b)(2)(vii) would give the superintendent (or someone with delegated authority) the right to examine and inspect the use of thermal water by a bathhouse at reasonable times to determine whether the bathhouse is being operated in accordance with the terms and conditions of the written instrument authorizing the use of thermal water, the approved thermal water management plan, and with the provisions of the regulations.

Paragraph (b)(3)—Prohibited Acts

Proposed regulation | Existing regulations
§ 7.18(b)(3) Prohibited acts | • § 21.1 Definitions.
| • § 21.2 Penalties
| • § 21.8 Employee certification.

The park's enabling act authorizes the Secretary, acting through the NPS, to provide penalties for the violation of any regulation as to the use of thermal water, including the cancellation of any lease for the use of such water. 16 U.S.C. 363. Consistent with this authorization, new paragraphs (b)(3)(i)-(v) would identify prohibited acts and state that they may result in the revocation or suspension of a written authorization to use thermal water. Prohibited acts would be failures to:

• comply with a written instrument authorizing the use of thermal water;

• comply with a provision of an approved water management plan;

• make a required payment;

• operate a pool or spa without appropriate certification, as determined by the OPH;

• ensure and maintain employee licenses and certifications where required by Federal or State law; and

• comply with any regulations addressing the use of thermal water.

This list of prohibited acts would provide notice and transparency to bathhouses about the repercussions of certain actions. Existing regulations in § 21.1 and § 21.8 require persons performing special services in bathhouses, such as physical therapy, massage, and attending to baths, to be licensed or certified by a State or U.S. territory, or by the superintendent upon completion of examinations and (for bath attendants) an apprenticeship. Individuals who provide special services in bathhouses are already subject to licensing and certification requirements under applicable law. Rather than imposing those requirements again in NPS regulations, new paragraph (b)(3)(v) would instead hold bathhouses accountable for the services they offer their customers by requiring bathhouses to ensure and maintain employee licenses and certifications where required by Federal or State law. The superintendent no longer examines or certifies bathhouse employees. As a result, those provisions also would be removed.

Existing regulations in § 21.2 state that any person convicted of violating any regulation in part 21 shall be punished by a fine not exceeding $100 and be adjudged to pay all costs of the proceedings. Existing regulations in 36 CFR 1.3 state that a person convicted of violating any regulation in parts 1 through 7, part 9 subpart B, and parts 12 and 13, shall be subject to the criminal penalties provided under 18 U.S.C. 1865. As a result of moving all regulations about the use of thermal water to § 7.18, a violation of any provision of the rule would result in criminal penalties under § 1.3. New paragraph (b)(3)(vi) would state this explicitly for additional notice and transparency.

Paragraph (b)(4)—Rates and Cost Recovery

Proposed regulation | Existing regulation
§ 7.18(b)(4) Rates and cost recovery | N/A.

The park's enabling act requires the NPS to charge bathhouses the same rates for thermal water that will be used for bathing, but allows the superintendent to charge bathhouses individual rates for thermal water that will not be used for bathing. 16 U.S.C. 362. The park's enabling act requires bathhouses located outside of the park that are authorized to use thermal water if there is a surplus, to pay all costs associated with connections for obtaining such thermal water. 16 U.S.C. 362. The park's enabling act requires the superintendent to readjust the terms and amounts of payment required under a written instrument authorizing the use of thermal water every five years during the term of the instrument. 16 U.S.C. 362. As stated above, the park's enabling act authorizes the NPS to make all needful rules and regulations regarding the use of thermal water, including the use of thermal water by bathhouses, and specifically states that such regulations can be made to prevent waste and be what the NPS deems best for the public interest. 16 U.S.C. 363.

In order to provide additional notice and transparency to bathhouses, this rule would include regulations that address rates and cost recovery for the use of thermal water that are consistent with the statutory authorities discussed above. All of these proposed provisions reflect current practice by the NPS. New paragraph (b)(4)(i) would state that rates charged for thermal water will be specified in the written instrument authorizing the use of thermal water. New paragraph (b)(4)(ii) would state that rates for thermal water that will be used for bathing will be the same for all bathhouses, and that rates for thermal water that will not be used for bathing will be determined by the superintendent for each bathhouse. New paragraph (b)(4)(iii) would state that bathhouses located outside of the park that may be authorized to use thermal water if there is a surplus must pay all costs incurred by the NPS associated with connections for obtaining such thermal water. Connection costs include all costs incurred from activities that cause the connections to be made. These may include, but are not limited to, design and construction costs, and costs incurred to comply with applicable laws and policies, such as the National Environmental Policy Act and the National Historic Preservation Act. New paragraph (b)(4)(iv) would state that written instruments authorizing the use of thermal water may require bathhouses to reimburse the NPS for costs incurred from the distribution of thermal water and maintenance of the distribution system. The ability of the NPS to recover these costs, when appropriate, will help ensure that thermal water is distributed safely, efficiently, and without waste. Finally, new paragraph (b)(5)(v) would state that the NPS will readjust the terms and amounts of payments required under a written instrument authorizing the use of thermal water at least every five years during its term and upon the renewal of a written instrument at the end of its term.

Compliance With Other Laws, Executive Orders and Department Policy

Regulatory Planning and Review (Executive Orders 12866 and 13563 and 14094)

Executive Order 12866, as amended by Executive Order 14094, provides that the Office of Information and Regulatory Affairs (OIRA) in the Office of Management and Budget will review all significant rules. OIRA has determined that the proposed rule is not significant.

Executive Order 14094 amends Executive Order 12866 and reaffirms the principles of Executive Order 12866 and Executive Order 13563 and states that regulatory analysis should facilitate agency efforts to develop regulations that serve the public interest, advance statutory objectives, and be consistent with Executive Order 12866, Executive Order 13563, and the Presidential Memorandum of January 20, 2021 (Modernizing Regulatory Review). Regulatory analysis, as practicable and appropriate, shall recognize distributive impacts and equity, to the extent permitted by law.

Executive Order 13563 reaffirms the principles of Executive Order 12866 while calling for improvements in the nation's regulatory system to promote predictability, to reduce uncertainty, and to use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this proposed rule in a manner consistent with these requirements.

Regulatory Flexibility Act

This proposed rule would not have a significant economic effect on a substantial number of small entities under the Regulatory Flexibility Act (5 U.S.C. 601 et seq.). This certification is based on information contained in the economic analyses found in the report entitled ” Regulatory Analysis of the Use of Thermal Water and Commercial Passenger-Carrying Vehicles at Hot Springs National Park Proposed Rule.” The report may be viewed in the docket for this rulemaking action by visiting https://www.regulations.gov/ and searching for “RIN 1024-AE86”.

Congressional Review Act

This proposed rule is not a major rule under 5 U.S.C. 804(2). This proposed rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This proposed rule does not impose an unfunded mandate on State, local, or Tribal governments or the private sector of more than $100 million per year. The proposed rule does not have a significant or unique effect on State, local or Tribal governments or the private sector. It addresses public use of national park lands and imposes no requirements on other agencies or governments. A statement containing the information required by the Unfunded Mandates Reform Act (2 U.S.C. 1531 et seq.) is not required.

Takings (Executive Order 12630)

This proposed rule does not effect a taking of private property or otherwise have takings implications under Executive Order 12630. A takings implication assessment is not required.

Federalism (Executive Order 13132)

Under the criteria in section 1 of Executive Order 13132, the proposed rule does not have sufficient federalism implications to warrant the preparation of a Federalism summary impact statement. This proposed rule only affects use of federally administered lands and waters. It has no direct effects on other areas. A Federalism summary impact statement is not required.

Civil Justice Reform (Executive Order 12988)

This proposed rule complies with the requirements of Executive Order 12988. This proposed rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and Tribal sovereignty. The NPS has evaluated this proposed rule under the criteria in Executive Order 13175 and under the Department's Tribal consultation policy and has determined that Tribal consultation is not required because the proposed rule will have no substantial direct effect on federally recognized Indian Tribes. Nevertheless, in support of the Department of the Interior's and the NPS's commitment to government-to-government consultation, the NPS intends to coordinate with Indian Tribes that are traditionally associated with the land that is now part of the park, including the Caddo Nation, Quapaw Nation, Osage Nation, Shawnee Tribe, and Absentee Shawnee.

Paperwork Reduction Act

This proposed rule contains existing information collections. All information collections require approval under the Paperwork Reduction Act of 1995 (PRA; 44 U.S.C. 3501 et seq.). The NPS may not conduct or sponsor and you are not required to respond to a collection of information unless it displays a currently valid OMB control number. The OMB has reviewed and approved the information collection requirements associated with NPS Form 10-550 “Commercial Use Authorization Application” and assigned OMB control number 1024-0268 (currently under review for renewal; the Information Collection Request was submitted to OMB on 3/29/2023).

National Environmental Policy Act

This proposed rule does not constitute a major Federal action significantly affecting the quality of the human environment. A detailed statement under the National Environmental Policy Act of 1969 (NEPA) is not required because the rule is covered by a categorical exclusion. NPS NEPA Handbook (2015) Section 3.3.A.8 allows for the following to be categorically excluded: Modifications or revisions to existing regulations or the promulgation of new regulations for NPS-administered areas, provided the modifications, revisions, or new regulations do not:

a. Increase public use to the extent of compromising the nature and character of the area or causing physical damage to it,

b. Introduce noncompatible uses that might compromise the nature and characteristics of the area or cause physical damage to it,

c. Conflict with adjacent ownerships or land uses, or

d. Cause a nuisance to adjacent owners or occupants.

The NPS has also determined that the proposed rule does not involve any of the extraordinary circumstances listed in 43 CFR 46.215 that would require further analysis under NEPA.

Effects on the Energy Supply (Executive Order 13211)

This proposed rule is not a significant energy action under the definition in Executive Order 13211; the proposed rule is not likely to have a significant adverse effect on the supply, distribution, or use of energy, and the rule has not otherwise been designated by the Administrator of OIRA as a significant energy action. A Statement of Energy Effects in not required.

Clarity of This Rule

The NPS is required by Executive Orders 12866 (section 1(b)(12)) and 12988 (section 3(b)(1)(B)), and 13563 (section 1(a)), and by the Presidential Memorandum of June 1, 1998, to write all rules in plain language. This means that each rule the NPS publishes must:

(a) Be logically organized;

(b) Use the active voice to address readers directly;

(c) Use common, everyday words and clear language rather than jargon;

(d) Be divided into short sections and sentences; and

(e) Use lists and tables wherever possible.

If you feel that the NPS has not met these requirements, send us comments by one of the methods listed in the ADDRESSES section. To better help the NPS revise the rule, your comments should be as specific as possible. For example, you should identify the numbers of the sections or paragraphs that you find unclear, which sections or sentences are too long, the sections where you feel lists or tables would be useful, etc.

Public Participation

It is the policy of the Department of the Interior, whenever practicable, to afford the public an opportunity to participate in the rulemaking process. Accordingly, interested persons may submit written comments regarding this proposed rule by one of the methods listed in the ADDRESSES section of this document.

Public Availability of Comments

Before including your address, phone number, email address, or other personal identifying information in your comment, you should be aware that your entire comment—including your personal identifying information—may be made publicly available at any time.

List of Subjects

36 CFR Part 7

National parks, Reporting and Recordkeeping requirements.

36 CFR Part 21

National parks.

For the reasons stated in the preamble, and under the authority of 16 U.S.C. 363 and 54 U.S.C. 100751, the National Park Service proposes to amend 36 CFR chapter I, as set forth below:

PART 7—SPECIAL REGULATIONS, AREAS OF THE NATIONAL PARK SYSTEM

1. The authority citation for part 7 continues to read as follows:

Authority: 54 U.S.C. 100101, 100751, 320102; Sec. 7.96 also issued under DC Code 10-137 and DC Code 50-2201.07.

2. Amend § 7.18 by revising paragraphs (a) and (b) to read as follows:

§ 7.18 Hot Springs National Park.

(a) Commercial passenger-carrying vehicles. Commercial use authorizations and fees for the operation of commercial passenger-carrying vehicles carrying passengers for hire over park roads will be required in accordance with 54 U.S.C. 101925.

(b) Thermal water. The regulations contained in this paragraph (b) apply to the use of thermal water.

(1) Definitions. The following definitions apply to this paragraph (b):

Bathhouse means a facility authorized to use thermal water for any purpose pursuant to a written instrument signed by the Superintendent of Hot Springs National Park.

Bathing means soaking in thermal water for health benefits.

Thermal water means water that emerges from springs, fountains or other natural sources within Hot Springs National Park.

Use of thermal water means heating, cooling, storing, removing from Hot Springs National Park, combining with other substances, or otherwise altering thermal water in any manner.

Water treatment means the introduction of any substance into thermal water, including chemicals, solutions, or other water.

(2) Use of thermal water. (i) The use of thermal water is prohibited except by individuals for personal consumption or as authorized in writing by the Superintendent provided that such use is consistent with the purposes of Hot Springs National Park, and provided further that under no circumstances may thermal water be removed from Hot Springs National Park for direct sale or use in products for sale. A written instrument authorizing the use of thermal water may be in the form of a lease agreement entered into under the specific authority of 16 U.S.C. 361 et seq., in addition to any other types of written instruments authorized by applicable law and policy.

(ii) Water treatment must be approved by the NPS Office of Public Health and is limited to the minimum amount and type necessary for the maintenance of public health and safety, as determined by the NPS Office of Public Health.

(iii) Bathhouses may use thermal water in the order of priority identified below, consistent with 16 U.S.C. 362:

(A) Bathhouses located within Hot Springs National Park, in the order in which they were authorized to use thermal water.

(B) Arlington Hotel.

(C) Bathhouses located outside of Hot Springs National Park, in the order in which they were authorized to use thermal water, and only when the Superintendent has determined that there is a surplus of thermal water.

(iv) For purposes of paragraph (b)(2)(iii)(C), a surplus may exist when, after accounting for all of the thermal water that bathhouses referred to in paragraphs (b)(2)(iii)(A) and (b)(2)(iii)(B) are authorized to use, the Superintendent determines that additional thermal water may be used by other bathhouses located outside of Hot Springs National Park in a manner that would not conflict with the requirements of applicable Federal laws and policies, including those that require the NPS to preserve the resources of Hot Springs National Park.

(v) The NPS will provide adequate notice to bathhouses that have lower priority use authorizations before it authorizes a bathhouse higher in the order of priority to use thermal water. The NPS will provide adequate notice to bathhouses referred to in paragraph (b)(2)(iii)(C) if the Superintendent's determination that there is a surplus of thermal water changes in a manner that will impact their authorizations to use thermal water.

(vi) Bathhouses must have a thermal water management plan approved by the Superintendent and the NPS Office of Public Health. Thermal water management plans for bathhouses located outside of Hot Springs National Park also must be approved by the Arkansas Department of Health.

(vii) The Superintendent has the right to examine and inspect the use of thermal water by a bathhouse at reasonable times to determine whether the bathhouse is being operated in accordance with the terms and conditions of the written instrument authorizing the use of thermal water, an approved thermal water management plan, and with the provisions of this section.

(3) Prohibited acts. The following acts are prohibited and may result in the revocation or suspension of a written authorization to use thermal water:

(i) Failure to comply with terms and conditions of a written instrument authorizing the use of thermal water.

(ii) Failure to comply with any provision of an approved thermal water management plan.

(iii) Failure to make any payment required under this section.

(iv) Failure to operate a pool or spa without appropriate certification, as determined by the NPS Office of Public Health.

(v) Failure by bathhouses to ensure and maintain employee licenses and certifications where required by Federal or State law.

(vi) Failure to comply with any provision of this paragraph (b) of § 7.18, which also may result in applicable penalties under § 1.3 of this chapter.

(4) Rates and cost recovery. (i) Rates charged for thermal water will be specified in the written instrument authorizing the use of thermal water.

(ii) Rates charged for thermal water that will be used for bathing will be the same for all bathhouses. Rates charged for thermal water that will not be used for bathing will be determined by the Superintendent for each bathhouse.

(iii) Bathhouses referred to in paragraph (b)(2)(iii)(C) must pay all costs associated with connections for obtaining such thermal water.

(iv) Written instruments authorizing the use of the thermal water may require bathhouses to reimburse the NPS for costs incurred from the distribution of thermal water and maintenance of the distribution system.

(v) The NPS will readjust the terms and amounts of payments required under a written instrument authorizing the use of thermal water at least every five years during its term and upon the renewal of a written instrument at end of its term.

* * * * *

Part 21 [Removed]

3. Remove part 21, consisting of §§ 21.1 through 21.12.

Shannon Estenoz,
Assistant Secretary for Fish and Wildlife and Parks.

[FR Doc. 2024-27571 Filed 11-26-24; 8:45 am]

BILLING CODE 4312-52-P